INTERNATIONAL TRADE COMMISSION

[Investigation No. 337-TA-1101]

Certain Fuel Pump Assemblies Having Vapor Separators and Components Thereof; Notice of Issuance of a Limited Exclusion Order Against a Respondent Found in Default; Termination of Investigation

AGENCY: U.S. International Trade Commission.

ACTION: Notice.

SUMMARY: Notice is hereby given that the U.S. International Trade Commission has issued a limited exclusion order against certain fuel-pump assemblies with vapor separators and components thereof of respondent Wenzhou Jushang (JS) Performance Parts Co. Ltd. of Wenzhou, China (“JSP,” or “Respondent”). The investigation is terminated.

FOR FURTHER INFORMATION CONTACT: Robert Needham, Esq., Office of the General Counsel, U.S. International Trade Commission, 500 E Street SW, Washington, DC 20436, telephone (202) 708-5468. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation under section 337 of the Tariff Act of 1930, as amended, 19 U.S.C. 1337 (“section 337”), on March 2, 2018, based on a complaint filed by Carter Fuel Systems, LLC of Logansport, IN (“Complainant”). 83 FR 9027 (Mar. 2, 2018). The complaint alleges a violation of section 337 by reason of infringement of certain claims of U.S. Patent No. 6,257,208 (“the '208 patent”). The notice of investigation named JSP as a sole respondent. Id. The Office of Unfair Import Investigations is not a party in this investigation.

On August 20, 2018, the Commission determined not to review an initial determination (Order No. 7) that found Respondent to be in default under Commission Rule 210.16 (19 CFR 210.16), and issued a Federal Register Notice (“Commission Notice”) to that effect. 83 FR 42937-38 (Aug. 24, 2018). The Commission also requested briefing from the parties and the public on the issues of remedy, the public interest, and bonding. Id. at 42938. Complainant filed a timely written submission pursuant to the Commission Notice requesting a limited exclusion order (“LEO”) against Respondent. No other submissions were filed pursuant to the Commission Notice.

The Commission has determined that the appropriate form of relief in this investigation is an LEO prohibiting the unlicensed entry of fuel-pump assemblies with vapor separators and components thereof that infringe one or more of claims 1-5 and 7-18 of the '208 patent and that are manufactured abroad by or on behalf of, or imported by or on behalf of, Respondent. The Commission has further determined that the public interest factors enumerated in Section 337(g)(l) (19 U.S.C. 1337(g)(l)) do not preclude issuance of the LEO. The Commission has determined that the bond for importation during the period of Presidential review shall be in the amount of one hundred (100) percent of the entered value of the imported subject articles of Respondent. The Commission's order was delivered to the President and the United States Trade Representative on the day of its issuance.

The authority for the Commission's determination is contained in section 337 of the Tariff Act of 1930, as amended (19 U.S.C. 1337), and in Part 210 of the Commission's Rules of Practice and Procedure (19 CFR part 210).

By order of the Commission.
Issued: December 13, 2018.
Lisa Barton,
Secretary to the Commission.

[FR Doc. 2018-27414 Filed 12-18-18; 8:45 am]

BILLING CODE 7020-02-P